DEPARTMENT OF HOMELAND SECURITY

Federal Emergency Management Agency

44 CFR Parts 59, 61, and 62

[Docket ID FEMA-2018-0026]

RIN 1660-AA95

National Flood Insurance Program: Conforming Changes To Reflect the Biggert-Waters Flood Insurance Reform Act of 2012 (BW-12) and the Homeowners Flood Insurance Affordability Act of 2014 (HFIAA), and Additional Clarifications for Plain Language; Correction

AGENCY: Federal Emergency Management Agency; DHS.

ACTION: Final rule; correction.

SUMMARY: On July 20, 2020, FEMA published in the Federal Register a final rule revising the National Flood Insurance Program (NFIP) regulations to codify certain provisions of the Biggert-Waters Flood Insurance Reform Act of 2012 and the Homeowner Flood Insurance Affordability Act of 2014, and to clarify certain existing NFIP rules relating to NFIP operations and the Standard Flood Insurance Policy. This final rule provides corrections to those instructions, to be used in lieu of the information published July 20.

DATES: This correction is effective October 1, 2021.

ADDRESSES: The docket for this rulemaking is available for inspection using the Federal eRulemaking Portal at http://www.regulations.gov and can be viewed by following that website's instructions.

FOR FURTHER INFORMATION CONTACT: Kelly Bronowicz, Director, Policyholder Services Division, Federal Insurance and Mitigation Administration, Federal Emergency Management Agency, 400 C Street SW, Washington, DC 20472, (202) 557-9488.

SUPPLEMENTARY INFORMATION: In FR Doc. 2020-09260, beginning on page 43946 in the Federal Register of Monday, July 20, 2020, the following corrections are made:

PART 61—INSURANCE COVERAGE AND RATES

Appendix A(1) to Part 61 [Corrected]

1. On page 43961, in the first column, in Appendix A(1) to Part 61, article III.A.5.a, “(see II.B.6.a)” is corrected to read “(see II.C.6.a)”.

2. On page 43963, in the second column, in Appendix A(1) to Part 61, article IV.4, “(see II.B.6.c)” is corrected to read “(see II.C.6.c)”.

Appendix A(2) to Part 61 [Corrected]

3. On page 43970, in the first column, in Appendix A(2) to Part 61, article III.A.6.a, “(see II.B.6.a.)” is corrected to read “(see II.C.6.a)”.

Appendix A(3) to Part 61 [Corrected]

4. On page 43978, in the first column, in Appendix A(3) to Part 61, article III.A.6.a, “(see II.B.6.a.)” is corrected to read “(see II.C.6.a)”.

Deanne B. Criswell,
Administrator, Federal Emergency Management Agency.

[FR Doc. 2021-18262 Filed 8-30-21; 8:45 am]

BILLING CODE 9111-52-P